ENVIRONMENTAL PROTECTION AGENCY

40 CFR Part 52

[EPA-R05-OAR-2014-0123; FRL-9917-41-Region 5]

Approval and Promulgation of Air Quality Implementation Plans; Illinois; Amendments to Gasoline Vapor Recovery Requirements for Illinois

AGENCY: Environmental Protection Agency (EPA).

ACTION: Proposed rule.

SUMMARY: The Environmental Protection Agency (EPA) is approving a state implementation plan (SIP) revision submitted by the Illinois Environmental Protection Agency on January 17, 2014, concerning the state's gasoline vapor recovery requirements. The SIP revision phases out the Stage II vapor recovery program requirements in the Illinois portion of the Chicago ozone nonattainment area as a component of the Illinois ozone SIP. The SIP revision also includes amendments to the state's permitting regulations applicable to storage tanks and fuel dispensing, including repealing the Stage I vapor recovery registration provisions due to overlapping Federal notification requirements and state tracking systems for gasoline dispensing operations. Finally, the SIP revision includes other clarifying and clean-up amendments at 35 Ill. Adm. Code Parts 201, 218, and 219. The submittal also includes a demonstration under section 110(l) of the Clean Air Act that shows there are no emissions impacts associated with the removal of the program.

DATES: Comments must be received on or before November 17, 2014.

ADDRESSES: Submit your comments, identified by Docket ID No. EPA-R05-OAR-2014-0123, by one of the following methods:

1. www.regulations.gov: Follow the on-line instructions for submitting comments.

2. Email: blakley.pamela@epa.gov.

3. Fax: (312) 692-2450.

4. Mail: Pamela Blakley, Chief, Control Strategies Section, Air Programs Branch (AR-18J), U.S. Environmental Protection Agency, 77 West Jackson Boulevard, Chicago, Illinois 60604.

5. Hand Delivery: Pamela Blakley, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Please see the direct final rule which is located in the Rules section of this Federal Register for detailed instructions on how to submit comments.

FOR FURTHER INFORMATION CONTACT: Francisco J. Acevedo, Mobile Source Program Manager, Control Strategies Section, Air Programs Branch (AR-18J), Environmental Protection Agency, Region 5, 77 West Jackson Boulevard, Chicago, Illinois 60604, (312) 886-6061, acevedo.francisco@epa.gov.

SUPPLEMENTARY INFORMATION: In the Final Rules section of this Federal Register, EPA is approving the state's SIP submittal as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment. For additional information, see the direct final rule which is located in the Rules section of this Federal Register.

Dated: September 24, 2014.
Susan Hedman,
Regional Administrator, Region 5.

[FR Doc. 2014-24464 Filed 10-16-14; 8:45 am]

BILLING CODE 6560-50-P